DEPARTMENT OF ENERGY

Federal Energy Regulatory Commission

[Docket No. CP22-21-000; Docket No. CP22-22-000]

Venture Global CP2 LNG, LLC; Venture Global CP Express, LLC; Notice Suspending Environmental Review Schedule of the Proposed CP2 LNG and CP EXPRESS PROJECTS

The staff of the Federal Energy Regulatory Commission (FERC or Commission) is suspending the environmental review schedule of the CP2 LNG and CP Express Projects (Projects) involving construction and operation of facilities by Venture Global CP2 LNG, LLC (CP2 LNG) and Venture Global CP Express, LLC (CP Express) in Jasper and Newton Counties, Texas, and Calcasieu and Cameron Parishes, Louisiana. The notice of schedule, issued on February 9, 2022, identified a July 2022 draft Environmental Impact Statement (EIS) issuance date and a February 10, 2023 final EIS date. This schedule was based upon CP2 LNG and CP Express providing complete and timely responses to any data requests. Environmental or engineering data requests were issued on February 11, April 11, April 14, and May 11, 2022. CP2 LNG and CP Express responded partially to these data requests on March 3, March 11, March 31, April 22, May 2, May 4, May 20, May 31, June 10, and June 30, 2022. A number of responses to data requests remain outstanding and/or are deficient, including the following, which are integral to the development of the draft EIS:

Examples of necessary information for draft EIS | Date to be provided according to CP2 LNG and CP express
Process Hazard Analysis | August 1, 2022.
Hazard Analysis Report | August 1, 2022.
Building Siting Analysis | August 1, 2022.
Carbon Capture and Sequestration | September 1, 2022.
Details on LNG Sendout Lines (pipe-in-pipe, including under a waterway) | September 1, 2022.
Noise Impact Analyses | (no date provided).
Cumulative Impacts using the recommended appropriate geographic scope | (no date provided).
Non-Jurisdictional Facilities | (no date provided).
Draft Beneficial Use Dredged Material Plan | (no date provided).
Draft Biological Assessment | (no date provided).
Air Dispersion Modeling | (no date provided).

As stated in our data requests, complete responses to these information requests within the time frame requested was necessary to maintain the published schedule for issuance of the EIS. CP2 LNG and CP Express have indicated in its responses to staff data requests that certain information would not be provided in time for staff to evaluate the responses and complete the analysis required for the draft EIS. Because there are still a number of outstanding responses to staff's environmental and engineering data requests, FERC staff are no longer able to complete the draft EIS as scheduled.

Therefore, the Commission will suspend the environmental review schedule for the Projects. Once CP2 LNG and CP Express provide the outstanding information or a schedule for when all substantive responses would be provided, the Commission will issue a revised schedule for the draft and final EIS. This is not a suspension of the Commission staff's review of the CP2 LNG and CP Express' Projects. Staff will continue to process CP2 LNG and CP Express' proposal to the extent possible based upon the information filed to date while awaiting the remaining data responses.

Additional Information

Additional information about the Projects are available from the Commission's Office of External Affairs, at (866) 208-FERC, or on the FERC website at www.ferc.gov using the eLibrary link. Click on the eLibrary link, click on “General Search” and enter the docket number in the “Docket Number” field, excluding the last three digits (i.e., CP22-21 and CP22-22). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: July 6, 2022.
Kimberly D. Bose,
Secretary.

[FR Doc. 2022-14802 Filed 7-11-22; 8:45 am]

BILLING CODE 6717-01-P